DEPARTMENT OF DEFENSE

Office of the Secretary

Publication of Housing Price Inflation Adjustment

AGENCY: Office of the Under Secretary (Personnel and Readiness), DoD.

ACTION: Notice of housing price inflation adjustment.

SUMMARY: The Department of Defense is announcing the 2018 rent threshold under the Servicemembers Civil Relief Act.

DATES: This notice is valid January 1, 2018.

FOR FURTHER INFORMATION CONTACT: Lt. Col. Reggie D. Yager, Office of the Under Secretary of Defense for Personnel and Readiness, (703) 571-9301.

SUPPLEMENTARY INFORMATION: The Servicemembers Civil Relief Act, as codified at 50 U.S.C. App. 3951, prohibits a landlord from evicting a Service member (or the Service member's family) from a residence during a period of military service except by court order. The law as originally passed by Congress applied to dwellings with monthly rents of $2,400 or less. The law requires the Department of Defense to adjust this amount annually to reflect inflation and to publish the new amount in the Federal Register. Applying the inflation adjustment for 2017, the maximum monthly rental amount for 50 U.S.C. App. 3951 (a)(1)(A)(ii) as of January 1, 2018, will be $3,716.73.

Dated: February 1, 2018.
Aaron Siegel,
Alternate OSD Federal Register Liaison Officer, Department of Defense.

[FR Doc. 2018-02390 Filed 2-6-18; 8:45 am]

BILLING CODE 5001-06-P